TENNESSEE VALLEY AUTHORITY

Agency Information Collection Activities: Proposed Collection; Comment Request; Correction

AGENCY: Tennessee Valley Authority.

ACTION: 60-Day notice of submission of information collection approval and request for comments; Correction.

SUMMARY: The Tennessee Valley Authority published a document in the Federal Register of November 24, 2021, concerning a proposed information collection that will be submitted to the Office of Management and Budget (OMB) for review, as required by the Paperwork Reduction Act of 1995. The Tennessee Valley Authority is soliciting public comments on this proposed collection. The document contained incorrect dates.

FOR FURTHER INFORMATION CONTACT: Public Information Collection Clearance Officer: Jennifer A. Wilds, Specialist, Records Compliance, Tennessee Valley Authority, 400 W Summit Hill Dr., CLK-320, Knoxville, Tennessee 37902-1401; telephone (865) 632-6580 or by email at pra@tva.gov.

SUPPLEMENTARY INFORMATION:

Correction

In the Federal Register of November 24, 2021, in FR Doc. 2021-25664, on page 67112, in the first column, correct the DATES caption to read:

DATES: Comments should be sent to the Information Collection Clearance Officer no later than January 24, 2022.

Dated: December 3, 2021.
Rebecca L. Coffey,
Agency Records Officer.

[FR Doc. 2021-26927 Filed 12-9-21; 8:45 am]

BILLING CODE 8120-08-P